DEPARTMENT OF TRANSPORTATION

Pipeline and Hazardous Materials Safety Administration

Office of Hazardous Materials Safety; Notice of Delays in Processing of Special Permits Applications

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Delmer F. Billings, Director, Office of Hazardous Materials Special Permits and Approvals, Pipeline and Hazardous Materials Safety Administration, U.S. Department of Transportation, East Building, PHH-30, 1200 New Jersey Avenue, Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application.

M—Modification request.

PM—Party to application with modification request.

Issued in Washington, DC, on August 18, 2010.
Donald Burger,
Chief, Special Permits and Approvals Branch.

Application No. | Applicant | Reason for delay | Estimated date of completion
Modification to Special Permits
14167-M | Trinityrail, Dallas, TX | 4 | 03-31-2011
6293-M | ATK Space Systems, Inc. (Former Grantee: ATK Thiokol, Inc.), Corine, UT | 4 | 03-31-2011
14741-M | Weatherford International, Fort Worth, TX | 4 | 03-31-2011
8826-M | Phoenix Air Group, Inc., Cartersville, GA | 4 | 03-31-2011
14650-M | Air Transport International, L.L.C., Little Rock, AR | 4 | 03-31-2011
14926-M | Lynden Air Cargo, Anchorage, AK | 4 | 11-30-2010
14808-M | Amtrol, Inc., West Warwick, RI | 4 | 03-31-2011
8826-M | Phoenix Air Group, Inc., Cartersville, GA | 4 | 03-31-2011
10869-M | Norris Cylinder Company, Longview, TX | 4 | 03-31-2011
13736-M | ConocoPhillips, Anchorage, AK | 4 | 03-31-2011
New Special Permit Applications
14810-N | Olin Corporation, Chlor Alkai Products Division, Cleveland, TN | 4 | 03-31-2011
14813-N | Organ Recovery Systems, Des Plaines, IL | 4 | 03-31-2011
14832-N | Trinity Industries, Inc., Dallas, TX | 4 | 03-31-2011
14835-N | The Reusable Industrial Packaging Assoc., Washington, DC | 4 | 03-31-2011
14839-N | Matheson Tri-Gas, Inc., Basking Ridge, NJ | 3 | 11-30-2010
14851-N | Alaska Air Group, Inc., Seattle, WA | 4 | 03-31-2011
14868-N | Wal-Mart Stores, Inc., Bentonville, AR | 4 | 03-31-2011
14878-N | Humboldt County Waste Management Authority, Eureka, CA | 4 | 03-31-2011
14872-N | Arkema, Inc., Philadelphia, PA | 4 | 03-31-2011
14921-N | ERA Helicopters LLE, Lake Charles, LA | 4 | 11-30-2010
14899-N | MGH Management Group, LLC | 4 | 03-31-2011
14929-N | Alaska Island Air, Inc., Togiak, AK | 4 | 11-30-2010
14933-N | Tobin Scientific, a division of Tobin & Sons Moving and Storage, Inc., Peabody, MA | 4 | 03-31-2011
14940-N | Crown Aerosol Packaging, Philadelphia, PA | 4 | 11-30-2010
14945-N | Vulcan Construction Materials LP SE, db/a Vulcan Materials Company, Atlanta, GA | 4 | 03-31-2011
14951-N | Lincoln Composites, Lincoln, NE | 1 | 11-30-2010
14952-N | Mebrom NV, Ertvelde-Rieme | 1 | 11-30-2010
14960-N | Cheltec, Inc., Sarasota, FL | 4 | 03-31-2011
14965-N | JiangXi Oxygen Plant Co., Ltd., Jiangxi Province | 4 | 11-30-2010
14972-N | Air Products and Chemicals, Allentown, PA | 4 | 11-30-2010
14977-N | Air Products and Chemicals, Inc., Allentown, PA | 4 | 03-31-2011
14980-N | Boehlke Bottled Gas Corp., Cedarburg, WI | 4 | 03-31-2011

[FR Doc. 2010-20911 Filed 8-23-10; 8:45 am]

BILLING CODE 4910-60-M